DEPARTMENT OF LABOR

Employment and Training Administration

Labor Surplus Area Classification Under Executive Orders 12073 and 10582

AGENCY: Employment and Training Administration, Labor.

ACTION: Notice

SUMMARY: The purpose of this notice is to announce the annual list of labor surplus areas for Fiscal Year (FY) 2010.

DATES: Effective Date: The annual list of labor surplus areas is effective October 1, 2009, for all States, the District of Columbia, and Puerto Rico.

FOR FURTHER INFORMATION CONTACT: Samuel Wright, Office of Workforce Investment, Employment and Training Administration, 200 Constitution Avenue, NW., Room S-4231, Washington, DC 20210. Telephone: (202) 693-2870 (This is not a toll-free number).

SUPPLEMENTARY INFORMATION: The Department of Labor's regulations implementing Executive Orders 12073 and 10582 are set forth at 20 CFR Part 654, Subparts A and B. These regulations require the Employment and Training Administration (ETA) to classify jurisdictions as labor surplus areas pursuant to the criteria specified in the regulations and to publish annually a list of labor surplus areas. Pursuant to those regulations, ETA is hereby publishing the annual list of labor surplus areas.

In addition, the regulations provide exceptional circumstance criteria for classifying labor surplus areas when catastrophic events, such as natural disasters, plant closings, and contract cancellations are expected to have a long-term impact on labor market area conditions, discounting temporary or seasonal factors.

Eligible Labor Surplus Areas

A Labor Surplus Area (LSA) is a civil jurisdiction that has a civilian average annual unemployment rate during the previous two calendar years of 20 percent or more above the average annual civilian unemployment rate for all States during the same 24-month reference period. Only official unemployment estimates provided to ETA by the Bureau of Labor Statistics are used in making these classifications. The average unemployment rate for all States includes data for the Commonwealth of Puerto Rico. The basic LSA classification criteria include a “floor unemployment rate” (6.0%) and a “ceiling unemployment rate” (10.0%).

Civil jurisdictions are defined as follows:

(a) A city of at least 25,000 population on the basis of the most recently available estimates from the Bureau of the Census; or

(b) A town or township in the States of Michigan, New Jersey, New York, or Pennsylvania of 25,000 or more population and which possess powers and functions similar to those of cities; or

(c) A county, except those counties which contain any type of civil jurisdictions defined in A or B above; or

(d) A “balance of county” consisting of a county less any component cities and townships identified in paragraphs A or B above; or

(e) A county equivalent which is a town in the States of Connecticut, Massachusetts, and Rhode Island, or a municipio in the Commonwealth of Puerto Rico.

Procedures for Classifying Labor Surplus Areas

The Department of Labor (DOL) issues the labor surplus area list on a fiscal year basis. The list becomes effective each October 1 and remains in effect through the following September 30. The reference period used in preparing the current list was January 2007 through December 2008. The national average unemployment rate during this period was 5.3 percent. Twenty percent higher than the national unemployment rate of 5.3 percent is a qualifying rate of 6.3 percent. Therefore, areas included on the FY 2010 labor surplus area list had an average unemployment rate of 6.3 percent or above during the reference period. This year the balance of county areas will only be listed were the county did not meet the unemployment qualifier as a labor surplus area but the balance of county did. A second listing would be unnecessarily redundant and potentially confusing. Several areas not on this labor surplus list have current unemployment rates that are substantially higher than the labor surplus qualifier of 6.3 percent. Most of these areas experienced unemployment rates that were considerably lower than the labor surplus qualifier of 6.3 percent for 2007 and the first half of 2008. The unemployment rates for most of these areas did not become significantly higher than 6.3 percent until after the third quarter of 2008 causing the unemployment rate for the reference period to be lower than 6.3 percent. The FY 2010 labor surplus area list can be accessed at: http://www.doleta.gov/programs/lsa.cfm.

Petition for Exceptional Circumstance Consideration

The classification procedures also provide for the designation of labor surplus areas under exceptional circumstance criteria. These procedures permit the regular classification criteria to be waived when an area experiences a significant increase in unemployment which is not temporary or seasonal and which was not reflected in the data for the 2-year reference period. Under the program's exceptional circumstance procedures, labor surplus area classifications can be made for civil jurisdictions, Metropolitan Statistical Areas or Primary Metropolitan Statistical Areas, as defined by the Office of Management and Budget. In order for an area to be classified as a labor surplus area under the exceptional circumstance criteria, the State workforce agency must submit a petition requesting such classification to the Department of Labor's ETA. The current criteria for an exceptional circumstance classification are: an area's unemployment rate of at least 6.3 percent for each of the three most recent months; a projected unemployment rate of at least 6.3 percent for each of the next 12 months; and documentation that the exceptional circumstance event has already occurred. The State workforce agency may file petitions on behalf of civil jurisdictions, as well as Metropolitan Statistical Areas or Micropolitan Statistical Areas. The addresses of State workforce agencies are available on the ETA Web site at: http://www.doleta.gov/programs/lsa.cfm. State Workforce Agencies may submit petitions in electronic format to wright.samuel.e@dol.gov, or in hard copy to the U.S. Department of Labor, Employment and Training Administration, Office of Workforce Investment, 200 Constitution Avenue, NW., Room S-4231, Washington, DC 20210. Data collection for the petition is approved under OMB 1205-0207, expiration date March 31, 2011.

Signed at Washington, D.C. this 21st day of October, 2009.
Jane Oates,
Assistant Secretary for Employment and Training Administration.

Labor Surplus Areas; October 1, 2009 Through September 30, 2010; Eligible Labor Surplus Areas; Civil Jurisdictions Included
Alabama
Balance of Dallas County, AL | Dallas County, AL.
Balance of Russell County, AL | Russell County, AL.
Barbour County, AL | Barbour County, AL
Bullock County, AL | Bullock County, AL.
Butler County, AL | Butler County, AL.
Chambers County, AL | Chambers County, AL.
Choctaw County, AL | Choctaw County, AL.
Clarke County, AL | Clarke County, AL.
Conecuh County, AL | Conecuh County, AL.
Coosa County, AL | Coosa County, AL.
Dallas County, AL | Dallas County, AL.
Greene County, AL | Greene County, AL.
Lamar County, AL | Lamar County, AL.
Lowndes County, AL | Lowndes County, AL.
Monroe County, AL | Monroe County, AL.
Perry County, AL | Perry County, AL.
Prichard City, AL | Mobile County, AL.
Russell County, AL | Russell County, AL.
Selma City, AL | Dallas County, AL.
Sumter County, AL | Sumter County, AL.
Washington County, AL | Washington County, AL.
Wilcox County, AL | Wilcox County, AL.
Winston County, AL | Winston County, AL.
Alaska
Aleutians East Borough, AK | Aleutians East Borough, AK.
Bethel Census Area, AK | Bethel Census Area, AK.
Dillingham Census Area, AK | Dillingham Census Area, AK.
Fairbanks City, AK | Fairbanks North Star Borough, AK.
Haines Borough, AK | Haines Borough, AK.
Kenai Peninsula Borough, AK | Kenai Peninsula Borough, AK.
Kodiak Island Borough, AK | Kodiak Island Borough, AK.
Lake and Peninsula Borough, AK | Lake and Peninsula Borough, AK.
Matanuska-Susitna Borough, AK | Matanuska-Susitna Borough, AK.
Nome Census Area, AK | Nome Census Area, AK.
Northwest Arctic Borough, AK | Northwest Arctic Borough, AK.
Prince of Wales-Outer Ketchikan Census Area, AK | Prince of Wales-Outer Ketchikan Census Area, AK.
Skagway-Hoonah-Angoon Census Area, AK | Skagway-Hoonah-Angoon Census Area, AK.
Southeast Fairbanks Census Area, AK | Southeast Fairbanks Census Area, AK.
Valdez-Cordova Census Area, AK | Valdez-Cordova Census Area, AK.
Wade Hampton Census Area, AK | Wade Hampton Census Area, AK.
Wrangell-Petersburg Census Area, AK | Wrangell-Petersburg Census Area, AK.
Yakutat Borough, AK | Yakutat Borough, AK.
Yukon-Koyukuk Census Area, AK | Yukon-Koyukuk Census Area, AK.
Arizona
Apache County, AZ | Apache County, AZ.
Balance of Cochise County, AZ | Cochise County, AZ.
Balance of Coconino County, AZ | Coconino County, AZ.
Balance of Maricopa County, AZ | Maricopa County, AZ.
Balance of Mohave County, AZ | Mohave County, AZ.
Balance of Pinal County, AZ | Pinal County, AZ.
Navajo County, AZ | Navajo County, AZ.
Santa Cruz County, AZ | Santa Cruz County, AZ.
Yuma City, AZ | Yuma County, AZ.
Yuma County, AZ | Yuma County, AZ.
Arkansas
Arkansas County, AR | Arkansas County, AR.
Ashley County, AR | Ashley County, AR.
Bradley County, AR | Bradley County, AR.
Chicot County, AR | Chicot County, AR.
Clay County, AR | Clay County, AR.
Columbia County, AR | Columbia County, AR.
Crittenden County, AR | Crittenden County, AR.
Cross County, AR | Cross County, AR.
Dallas County, AR | Dallas County, AR.
Desha County, AR | Desha County, AR.
Drew County, AR | Drew County, AR.
El Dorado City, AR | Union County, AR.
Hot Springs City, AR | Garland County, AR.
Independence County, AR | Independence County, AR.
Jackson County, AR | Jackson County, AR.
Jefferson County, AR | Jefferson County, AR.
Lafayette County, AR | Lafayette County, AR.
Lawrence County, AR | Lawrence County, AR.
Lee County, AR | Lee County, AR.
Lincoln County, AR | Lincoln County, AR.
Mississippi County, AR | Mississippi County, AR.
Ouachita County, AR | Ouachita County, AR.
Phillips County, AR | Phillips County, AR.
Pine Bluff City, AR | Jefferson County, AR.
Poinsett County, AR | Poinsett County, AR.
Randolph County, AR | Randolph County, AR.
Sharp County, AR | Sharp County, AR.
St. Francis County, AR | St. Francis County, AR.
Union County, AR | Union County, AR.
West Memphis City, AR | Crittenden County, AR.
Woodruff County, AR | Woodruff County, AR.
California
Adelanto City, CA | San Bernardino County, CA.
Alpine County, CA | Alpine County, CA.
Amador County, CA | Amador County, CA.
Apple Valley Town, CA | San Bernardino County, CA.
Atwater City, CA | Merced County, CA.
Azusa City, CA | Los Angeles County, CA.
Balance of Placer County, CA | Placer County, CA.
Balance of Santa Clara County, CA | Santa Clara County, CA.
Balance of Santa Cruz County, CA | Santa Cruz County, CA.
Balance of Solano County, CA | Solano County, CA.
Balance of Ventura County, CA | Ventura County, CA.
Baldwin Park City, CA | Los Angeles County, CA.
Banning City, CA | Riverside County, CA.
Beaumont City, CA | Riverside County, CA.
Bell City, CA | Los Angeles County, CA.
Bell Gardens City, CA | Los Angeles County, CA.
Bellflower City, CA | Los Angeles County, CA.
Butte County, CA | Butte County, CA.
Calaveras County, CA | Calaveras County, CA.
Calexico City, CA | Imperial County, CA.
Carson City, CA | Los Angeles County, CA.
Cathedral City City, CA | Riverside County, CA.
Ceres City, CA | Stanislaus County, CA.
Chico City, CA | Butte County, CA.
Coachella City, CA | Riverside County, CA.
Colton City, CA | San Bernardino County, CA.
Colusa County, CA | Colusa County, CA.
Compton City, CA | Los Angeles County, CA.
Cudahy City, CA | Los Angeles County, CA.
Del Norte County, CA | Del Norte County, CA.
Delano City, CA | Kern County, CA.
East Palo Alto City, CA | San Mateo County, CA.
El Cajon City, CA | San Diego County, CA.
El Centro City, CA | Imperial County, CA.
El Monte City, CA | Los Angeles County, CA.
Eureka City, CA | Humboldt County, CA.
Fairfield City, CA | Solano County, CA.
Fontana City, CA | San Bernardino County, CA.
Fresno City, CA | Fresno County, CA.
Fresno County, CA | Fresno County, CA.
Gilroy City, CA | Santa Clara County, CA.
Glenn County, CA | Glenn County, CA.
Hanford City, CA | Kings County, CA.
Hawthorne City, CA | Los Angeles County, CA.
Hemet City, CA | Riverside County, CA.
Hesperia City, CA | San Bernardino County, CA.
Highland City, CA | San Bernardino County, CA.
Hollister City, CA | San Benito County, CA.
Humboldt County, CA | Humboldt County, CA.
Huntington Park City, CA | Los Angeles County, CA.
Imperial Beach City, CA | San Diego County, CA.
Imperial County, CA | Imperial County, CA.
Indio City, CA | Riverside County, CA.
Inglewood City, CA | Los Angeles County, CA.
Kern County, CA | Kern County, CA.
Kings County, CA | Kings County, CA.
La Puente City, CA | Los Angeles County, CA.
Lake County, CA | Lake County, CA.
Lake Elsinore City, CA | Riverside County, CA.
Lancaster City, CA | Los Angeles County, CA.
Lassen County, CA | Lassen County, CA.
Lawndale City, CA | Los Angeles County, CA.
Lemon Grove City, CA | San Diego County, CA.
Lincoln City, CA | Placer County, CA.
Lodi City, CA | San Joaquin County, CA.
Lompoc City, CA | Santa Barbara County, CA.
Long Beach City, CA | Los Angeles County, CA.
Los Angeles City, CA | Los Angeles County, CA.
Los Angeles County, CA | Los Angeles County, CA.
Los Banos City, CA | Merced County, CA.
Lynwood City, CA | Los Angeles County, CA.
Madera City, CA | Madera County, CA.
Madera County, CA | Madera County, CA.
Manteca City, CA | San Joaquin County, CA.
Mariposa County, CA | Mariposa County, CA.
Maywood City, CA | Los Angeles County, CA.
Merced City, CA | Merced County, CA.
Merced County, CA | Merced County, CA.
Modesto City, CA | Stanislaus County, CA.
Modoc County, CA | Modoc County, CA.
Montclair City, CA | San Bernardino County, CA.
Montebello City, CA | Los Angeles County, CA.
Monterey Park City, CA | Los Angeles County, CA.
Moreno Valley City, CA | Riverside County, CA.
Morgan Hill City, CA | Santa Clara County, CA.
National City City, CA | San Diego County, CA.
Norwalk City, CA | Los Angeles County, CA.
Oakland City, CA | Alameda County, CA.
Ontario City, CA | San Bernardino County, CA.
Oxnard City, CA | Ventura County, CA.
Palmdale City, CA | Los Angeles County, CA.
Paramount City, CA | Los Angeles County, CA.
Perris City, CA | Riverside County, CA.
Pittsburg City, CA | Contra Costa County, CA.
Plumas County, CA | Plumas County, CA.
Pomona City, CA | Los Angeles County, CA.
Porterville City, CA | Tulare County, CA.
Rancho Cordova City, CA | Sacramento County, CA.
Redding City, CA | Shasta County, CA.
Rialto City, CA | San Bernardino County, CA.
Richmond City, CA | Contra Costa County, CA.
Riverside City, CA | Riverside County, CA.
Riverside County, CA | Riverside County, CA.
Sacramento City, CA | Sacramento County, CA.
Sacramento County, CA | Sacramento County, CA.
Salinas City, CA | Monterey County, CA.
San Benito County, CA | San Benito County, CA.
San Bernardino City, CA | San Bernardino County, CA.
San Bernardino County, CA | San Bernardino County, CA.
San Jacinto City, CA | Riverside County, CA.
San Joaquin County, CA | San Joaquin County, CA.
San Pablo City, CA | Contra Costa County, CA.
Sanger City, CA | Fresno County, CA.
Santa Ana City, CA | Orange County, CA.
Santa Cruz County, CA | Santa Cruz County, CA.
Santa Maria City, CA | Santa Barbara County, CA.
Santa Paula City, CA | Ventura County, CA.
Shasta County, CA | Shasta County, CA.
Sierra County, CA | Sierra County, CA.
Siskiyou County, CA | Siskiyou County, CA.
Soledad City, CA | Monterey County, CA.
South Gate City, CA | Los Angeles County, CA.
Stanislaus County, CA | Stanislaus County, CA.
Stanton City, CA | Orange County, CA.
Stockton City, CA | San Joaquin County, CA.
Suisun City City, CA | Solano County, CA.
Sutter County, CA | Sutter County, CA.
Tehama County, CA | Tehama County, CA.
Trinity County, CA | Trinity County, CA.
Tulare City, CA | Tulare County, CA.
Tulare County, CA | Tulare County, CA.
Tuolumne County, CA | Tuolumne County, CA.
Turlock City, CA | Stanislaus County, CA.
Twentynine Palms City, CA | San Bernardino County, CA.
Vallejo City, CA | Solano County, CA.
Victorville City, CA | San Bernardino County, CA.
Watsonville City, CA | Santa Cruz County, CA.
West Sacramento City, CA | Yolo County, CA.
Woodland City, CA | Yolo County, CA.
Yolo County, CA | Yolo County, CA.
Yuba City City, CA | Sutter County, CA.
Yuba County, CA | Yuba County, CA.
Colorado
Balance of El Paso County, CO | El Paso County, CO.
Commerce City City, CO | Adams County, CO.
Conejos County, CO | Conejos County, CO.
Costilla County, CO | Costilla County, CO.
Crowley County, CO | Crowley County, CO.
Saguache County, CO | Saguache County, CO.
Connecticut
Ansonia City, CT | Ansonia City, CT.
Bridgeport City, CT | Bridgeport City, CT.
East Hartford Town, CT | East Hartford Town, CT.
Hartford City, CT | Hartford City, CT.
Killingly Town, CT | Killingly Town, CT.
Meriden City, CT | Meriden City, CT.
New Britain City, CT | New Britain City, CT.
New Haven City, CT | New Haven City, CT.
New London City, CT | New London City, CT.
Plainfield Town, CT | Plainfield Town, CT.
Putnam Town, CT | Putnam Town, CT.
Waterbury City, CT | Waterbury City, CT.
Windham County, CT | Windham County, CT.
Delaware
Wilmington City, DE | New Castle County, DE.
District of Columbia
District of Columbia | District of Columbia.
Florida
Balance of Bay County, FL | Bay County, FL.
Balance of Brevard County, FL | Brevard County, FL.
Balance of Broward County, FL | Broward County, FL.
Balance of Duval County, FL | Duval County, FL.
Balance of Escambia County, FL | Escambia County, FL.
Balance of Manatee County, FL | Manatee County, FL.
Balance of Marion County, FL | Marion County, FL.
Balance of Osceola County, FL | Osceola County, FL.
Balance of Palm Beach County, FL | Palm Beach County, FL.
Balance of Pinellas County, FL | Pinellas County, FL.
Balance of Polk County, FL | Polk County, FL.
Balance of Sarasota County, FL | Sarasota County, FL.
Balance of Volusia County, FL | Volusia County, FL.
Charlotte County, FL | Charlotte County, FL.
Citrus County, FL | Citrus County, FL.
Flagler County, FL | Flagler County, FL.
Fort Pierce City, FL | St. Lucie County, FL.
Hendry County, FL | Hendry County, FL.
Hernando County, FL | Hernando County, FL.
Hialeah City, FL | Miami-Dade County, FL.
Indian River County, FL | Indian River County, FL.
Lee County, FL | Lee County, FL.
Madison County, FL | Madison County, FL.
Miami Gardens City, FL | Miami-Dade County, FL.
Okeechobee County, FL | Okeechobee County, FL.
Palm Coast City, FL | Flagler County, FL.
Port St. Lucie City, FL | St. Lucie County, FL.
Georgia
Albany City, GA | Dougherty County, GA.
Atkinson County, GA | Atkinson County, GA.
Atlanta City, GA | Fulton and DeKalb Counties.
Augusta-Richmond County (consolidated) City, GA | Richmond County, GA.
Balance of DeKalb County, GA | DeKalb County, GA.
Balance of Douglas County, GA | Douglas County, GA.
Balance of Fulton County, GA | Fulton County, GA.
Balance of Liberty County, GA | Liberty County, GA.
Balance of Peach County, GA | Peach County, GA.
Balance of Whitfield County, GA | Whitfield County, GA.
Baldwin County, GA | Baldwin County, GA.
Ben Hill County, GA | Ben Hill County, GA.
Burke County, GA | Burke County, GA.
Butts County, GA | Butts County, GA.
Calhoun County, GA | Calhoun County, GA.
Chattahoochee County, GA | Chattahoochee County, GA.
Chattooga County, GA | Chattooga County, GA.
Clay County, GA | Clay County, GA.
Clayton County, GA | Clayton County, GA.
Coffee County, GA | Coffee County, GA.
Cook County, GA | Cook County, GA.
Crisp County, GA | Crisp County, GA.
Dalton City, GA | Whitfield County, GA.
Decatur County, GA | Decatur County, GA.
Dougherty County, GA | Dougherty County, GA.
East Point City, GA | Fulton County, GA.
Elbert County, GA | Elbert County, GA.
Emanuel County, GA | Emanuel County, GA.
Hancock County, GA | Hancock County, GA.
Hart County, GA | Hart County, GA.
Heard County, GA | Heard County, GA.
Irwin County, GA | Irwin County, GA.
Jasper County, GA | Jasper County, GA.
Jeff Davis County, GA | Jeff Davis County, GA.
Jefferson County, GA | Jefferson County, GA.
Jenkins County, GA | Jenkins County, GA.
Johnson County, GA | Johnson County, GA.
LaGrange City, GA | Troup County, GA.
Lawrenceville City, GA | Gwinnett County, GA.
Lincoln County, GA | Lincoln County, GA.
Macon City, GA | Bibb and Jones, Counties.
Macon County, GA | Macon County, GA.
McDuffie County, GA | McDuffie County, GA.
Meriwether County, GA | Meriwether County, GA.
Newton County, GA | Newton County, GA.
Quitman County, GA | Quitman County, GA.
Randolph County, GA | Randolph County, GA.
Richmond County, GA | Richmond County, GA.
Rome City, GA | Floyd County, GA.
Schley County, GA | Schley County, GA.
Screven County, GA | Screven County, GA.
Seminole County, GA | Seminole County, GA.
Spalding County, GA | Spalding County, GA.
Statesboro City, GA | Bulloch County, GA.
Stewart County, GA | Stewart County, GA.
Sumter County, GA | Sumter County, GA.
Talbot County, GA | Talbot County, GA.
Taliaferro County, GA | Taliaferro County, GA.
Taylor County, GA | Taylor County, GA.
Telfair County, GA | Telfair County, GA.
Terrell County, GA | Terrell County, GA.
Treutlen County, GA | Treutlen County, GA.
Troup County, GA | Troup County, GA.
Turner County, GA | Turner County, GA.
Twiggs County, GA | Twiggs County, GA.
Upson County, GA | Upson County, GA.
Warren County, GA | Warren County, GA.
Washington County, GA | Washington County, GA.
Wayne County, GA | Wayne County, GA.
Wilcox County, GA | Wilcox County, GA.
Wilkes County, GA | Wilkes County, GA.
Idaho
Adams County, ID | Adams County, ID.
Balance of Canyon County, ID | Canyon County, ID.
Benewah County, ID | Benewah County, ID.
Boundary County, ID | Boundary County, ID.
Clearwater County, ID | Clearwater County, ID.
Shoshone County, ID | Shoshone County, ID.
Valley County, ID | Valley County, ID.
Illinois
Alexander County, IL | Alexander County, IL.
Alton City, IL | Madison County, IL.
Balance of DeKalb County, IL | DeKalb County, IL.
Balance of Jackson County, IL | Jackson County, IL.
Balance of Kendall County, IL | Kendall County, IL.
Balance of Knox County, IL | Knox County, IL.
Belleville City, IL | St. Clair County, IL.
Belvidere City, IL | Boone County, IL.
Berwyn City, IL | Cook County, IL.
Bond County, IL | Bond County, IL.
Boone County, IL | Boone County, IL.
Calhoun County, IL | Calhoun County, IL.
Calumet City City, IL | Cook County, IL.
Carpentersville village, IL | Kane County, IL.
Chicago City, IL | Cook County, IL.
Chicago Heights City, IL | Cook County, IL.
Cicero Town, IL | Cook County, IL.
Clark County, IL | Clark County, IL.
Clay County, IL | Clay County, IL.
Crawford County, IL | Crawford County, IL.
Cumberland County, IL | Cumberland County, IL.
Danville City, IL | Vermilion County, IL.
Decatur City, IL | Macon County, IL.
Dolton village, IL | Cook County, IL.
East St. Louis City, IL | St. Clair County, IL.
Edgar County, IL | Edgar County, IL.
Elgin City, IL | Cook and Kane Counties, IL.
Fayette County, IL | Fayette County, IL.
Franklin County, IL | Franklin County, IL.
Freeport City, IL | Stephenson County, IL.
Fulton County, IL | Fulton County, IL.
Galesburg City, IL | Knox County, IL.
Gallatin County, IL | Gallatin County, IL.
Granite City City, IL | Madison County, IL.
Grundy County, IL | Grundy County, IL.
Hamilton County, IL | Hamilton County, IL.
Hancock County, IL | Hancock County, IL.
Hardin County, IL | Hardin County, IL.
Harvey City, IL | Cook County, IL.
Henderson County, IL | Henderson County, IL.
Johnson County, IL | Johnson County, IL.
Joliet City, IL | Will County, IL.
Kankakee City, IL | Kankakee County, IL.
Kankakee County, IL | Kankakee County, IL.
La Salle County, IL | La Salle County, IL.
Lansing village, IL | Cook County, IL.
Lawrence County, IL | Lawrence County, IL.
Lee County, IL | Lee County, IL.
Macon County, IL | Macon County, IL.
Macoupin County, IL | Macoupin County, IL.
Madison County, IL | Madison County, IL.
Marion County, IL | Marion County, IL.
Mason County, IL | Mason County, IL.
Massac County, IL | Massac County, IL.
Maywood village, IL | Cook County, IL.
Mercer County, IL | Mercer County, IL.
Montgomery County, IL | Montgomery County, IL.
North Chicago City, IL | Lake County, IL.
Ogle County, IL | Ogle County, IL.
Park Forest village, IL | Cook and Will Counties, IL.
Perry County, IL | Perry County, IL.
Pope County, IL | Pope County, IL.
Pulaski County, IL | Pulaski County, IL.
Putnam County, IL | Putnam County, IL.
Randolph County, IL | Randolph County, IL.
Rockford City, IL | Winnebago County, IL.
Round Lake Beach village, IL | Lake County, IL.
Saline County, IL | Saline County, IL.
St. Clair County, IL | St. Clair County, IL.
Stephenson County, IL | Stephenson County, IL.
Union County, IL | Union County, IL.
Vermilion County, IL | Vermilion County, IL.
Wabash County, IL | Wabash County, IL.
Waukegan City, IL | Lake County, IL.
Whiteside County, IL | Whiteside County, IL.
Williamson County, IL | Williamson County, IL.
Winnebago County, IL | Winnebago County, IL.
Zion City, IL | Lake County, IL.
Indiana
Anderson City, IN | Madison County, IN.
Balance of Delaware County, IN | Delaware County, IN.
Balance of LaPorte County, IN | LaPorte County, IN.
Balance of Marion County, IN | Marion County, IN.
Balance of Wayne County, IN | Wayne County, IN.
Blackford County, IN | Blackford County, IN.
Clay County, IN | Clay County, IN.
Crawford County, IN | Crawford County, IN.
DeKalb County, IN | DeKalb County, IN.
East Chicago City, IN | Lake County, IN.
Elkhart City, IN | Elkhart County, IN.
Elkhart County, IN | Elkhart County, IN.
Fayette County, IN | Fayette County, IN.
Gary City, IN | Lake County, IN.
Goshen City, IN | Elkhart County, IN.
Grant County, IN | Grant County, IN.
Hammond City, IN | Lake County, IN.
Henry County, IN | Henry County, IN.
Howard County, IN | Howard County, IN.
Kokomo City, IN | Howard County, IN.
LaGrange County, IN | LaGrange County, IN.
Lawrence County, IN | Lawrence County, IN.
Madison County, IN | Madison County, IN.
Marion City, IN | Grant County, IN.
Miami County, IN | Miami County, IN.
Michigan City City, IN | LaPorte County, IN.
Muncie City, IN | Delaware County, IN.
Noble County, IN | Noble County, IN.
Randolph County, IN | Randolph County, IN.
Richmond City, IN | Wayne County, IN.
South Bend City, IN | St. Joseph County, IN.
Starke County, IN | Starke County, IN.
Steuben County, IN | Steuben County, IN.
Terre Haute City, IN | Vigo County, IN.
Vermillion County, IN | Vermillion County, IN.
Iowa
Jasper County, IA | Jasper County, IA.
Kansas
Kansas City City, KS | Wyandotte County, KS.
Leavenworth City, KS | Leavenworth County, KS.
Wyandotte County, KS | Wyandotte County, KS.
Kentucky
Adair County, KY | Adair County, KY.
Allen County, KY | Allen County, KY.
Balance of Boyd County, KY | Boyd County, KY.
Balance of Henderson County, KY | Henderson County, KY.
Balance of Jefferson County, KY | Jefferson County, KY.
Bath County, KY | Bath County, KY.
Bell County, KY | Bell County, KY.
Boyle County, KY | Boyle County, KY.
Bracken County, KY | Bracken County, KY.
Breathitt County, KY | Breathitt County, KY.
Breckinridge County, KY | Breckinridge County, KY.
Bullitt County, KY | Bullitt County, KY.
Butler County, KY | Butler County, KY.
Carlisle County, KY | Carlisle County, KY.
Carroll County, KY | Carroll County, KY.
Carter County, KY | Carter County, KY.
Christian County, KY | Christian County, KY.
Clay County, KY | Clay County, KY.
Crittenden County, KY | Crittenden County, KY.
Cumberland County, KY | Cumberland County, KY.
Edmonson County, KY | Edmonson County, KY.
Elliott County, KY | Elliott County, KY.
Estill County, KY | Estill County, KY.
Fleming County, KY | Fleming County, KY.
Floyd County, KY | Floyd County, KY.
Fulton County, KY | Fulton County, KY.
Gallatin County, KY | Gallatin County, KY.
Grant County, KY | Grant County, KY.
Graves County, KY | Graves County, KY.
Grayson County, KY | Grayson County, KY.
Green County, KY | Green County, KY.
Harlan County, KY | Harlan County, KY.
Hickman County, KY | Hickman County, KY.
Hopkins County, KY | Hopkins County, KY.
Hopkinsville City, KY | Christian County, KY.
Jackson County, KY | Jackson County, KY.
Johnson County, KY | Johnson County, KY.
Knott County, KY | Knott County, KY.
Knox County, KY | Knox County, KY.
Lawrence County, KY | Lawrence County, KY.
Lee County, KY | Lee County, KY.
Leslie County, KY | Leslie County, KY.
Letcher County, KY | Letcher County, KY.
Lewis County, KY | Lewis County, KY.
Lincoln County, KY | Lincoln County, KY.
Lyon County, KY | Lyon County, KY.
Magoffin County, KY | Magoffin County, KY.
Martin County, KY | Martin County, KY.
McCreary County, KY | McCreary County, KY.
McLean County, KY | McLean County, KY.
Meade County, KY | Meade County, KY.
Menifee County, KY | Menifee County, KY.
Metcalfe County, KY | Metcalfe County, KY.
Monroe County, KY | Monroe County, KY.
Montgomery County, KY | Montgomery County, KY.
Morgan County, KY | Morgan County, KY.
Muhlenberg County, KY | Muhlenberg County, KY.
Nelson County, KY | Nelson County, KY.
Nicholas County, KY | Nicholas County, KY.
Owsley County, KY | Owsley County, KY.
Pendleton County, KY | Pendleton County, KY.
Perry County, KY | Perry County, KY.
Powell County, KY | Powell County, KY.
Pulaski County, KY | Pulaski County, KY.
Rockcastle County, KY | Rockcastle County, KY.
Russell County, KY | Russell County, KY.
Spencer County, KY | Spencer County, KY.
Todd County, KY | Todd County, KY.
Trigg County, KY | Trigg County, KY.
Trimble County, KY | Trimble County, KY.
Washington County, KY | Washington County, KY.
Wayne County, KY | Wayne County, KY.
Whitley County, KY | Whitley County, KY.
Wolfe County, KY | Wolfe County, KY.
Louisiana
East Carroll Parish, LA | Concordia Parish, LA.
Franklin Parish, LA | De Soto Parish, LA.
Madison Parish, LA | East Carroll Parish, LA.
Morehouse Parish, LA | Franklin Parish, LA.
Red River Parish, LA | Madison Parish, LA.
St. Helena Parish, LA | Morehouse Parish, LA.
St. James Parish, LA | Red River Parish, LA.
Tensas Parish, LA | St. Helena Parish, LA.
West Carroll Parish, LA | St. James Parish, LA.
Maine
Aroostook County, ME | Aroostook County, ME.
Franklin County, ME | Franklin County, ME.
Oxford County, ME | Oxford County, ME.
Piscataquis County, ME | Piscataquis County, ME.
Somerset County, ME | Somerset County, ME.
Washington County, ME | Washington County, ME.
Maryland
Dorchester County, MD | Dorchester County, MD.
Worcester County, MD | Worcester County, MD.
Massachusetts
Adams Town, MA | Adams Town, MA.
Athol Town, MA | Athol Town, MA.
Bristol County, MA | Bristol County, MA.
Brockton City, MA | Brockton City, MA.
Fairhaven Town, MA | Fairhaven Town, MA.
Fall River City, MA | Fall River City, MA.
Fitchburg City, MA | Fitchburg City, MA.
Florida Town, MA | Florida Town, MA.
Gardner City, MA | Gardner City, MA.
Holyoke City, MA | Holyoke City, MA.
Lawrence City, MA | Lawrence City, MA.
Monroe Town, MA | Monroe Town, MA.
New Bedford City, MA | New Bedford City, MA.
North Adams City, MA | North Adams City, MA.
Provincetown Town, MA | Provincetown Town, MA.
Royalston Town, MA | Royalston Town, MA.
Southbridge Town, MA | Southbridge Town, MA.
Springfield City, MA | Springfield City, MA.
Templeton Town, MA | Templeton Town, MA.
Truro Town, MA | Truro Town, MA.
Warren Town, MA | Warren Town, MA.
Webster Town, MA | Webster Town, MA.
Wellfleet Town, MA | Wellfleet Town, MA.
Westport Town, MA | Westport Town, MA.
Winchendon Town, MA | Winchendon Town, MA.
Michigan
Alcona County, MI | Alcona County, MI.
Alger County, MI | Alger County, MI.
Allegan County, MI | Allegan County, MI.
Alpena County, MI | Alpena County, MI.
Antrim County, MI | Antrim County, MI.
Arenac County, MI | Arenac County, MI.
Balance of Clinton County, MI | Clinton County, MI.
Balance of Eaton County, MI | Eaton County, MI.
Balance of Midland County, MI | Midland County, MI.
Baraga County, MI | Baraga County, MI.
Battle Creek City, MI | Calhoun County, MI.
Bay City City, MI | Bay County, MI.
Bay County, MI | Bay County, MI.
Bedford Township (Monroe County), MI | Monroe County, MI.
Benzie County, MI | Benzie County, MI.
Berrien County, MI | Berrien County, MI.
Blackman Charter Township, MI | Jackson County, MI.
Branch County, MI | Branch County, MI.
Burton City, MI | Genesee County, MI.
Calhoun County, MI | Calhoun County, MI.
Cass County, MI | Cass County, MI.
Charlevoix County, MI | Charlevoix County, MI.
Cheboygan County, MI | Cheboygan County, MI.
Chesterfield Township, MI | Macomb County, MI.
Chippewa County, MI | Chippewa County, MI.
Clare County, MI | Clare County, MI.
Clinton Township (Macomb County), MI | Macomb County, MI.
Crawford County, MI | Crawford County, MI.
Delta County, MI | Delta County, MI.
Detroit City, MI | Wayne County, MI.
Dickinson County, MI | Dickinson County, MI.
East Lansing City, MI | Ingham County, MI.
Eastpointe City, MI | Macomb County, MI.
Emmet County, MI | Emmet County, MI.
Ferndale City, MI | Oakland County, MI.
Flint City, MI | Genesee County, MI.
Flint Township, MI | Genesee County, MI.
Genesee County, MI | Genesee County, MI.
Gladwin County, MI | Gladwin County, MI.
Gogebic County, MI | Gogebic County, MI.
Grand Rapids City, MI | Kent County, MI.
Grand Traverse County, MI | Grand Traverse County, MI.
Gratiot County, MI | Gratiot County, MI.
Harrison Township, MI | Macomb County, MI.
Highland Park City, MI | Wayne County, MI.
Hillsdale County, MI | Hillsdale County, MI.
Holland City, MI | Allegan County, MI.
Houghton County, MI | Houghton County, MI.
Huron County, MI | Huron County, MI.
Ingham County, MI | Ingham County, MI.
Inkster City, MI | Wayne County, MI.
Ionia County, MI | Ionia County, MI.
Iosco County, MI | Iosco County, MI.
Iron County, MI | Iron County, MI.
Jackson City, MI | Jackson County, MI.
Jackson County, MI | Jackson County, MI.
Kalamazoo City, MI | Kalamazoo County, MI.
Kalkaska County, MI | Kalkaska County, MI.
Kent County, MI | Kent County, MI.
Keweenaw County, MI | Keweenaw County, MI.
Lake County, MI | Lake County, MI.
Lansing City, MI | Eaton County, MI.
Lapeer County, MI | Lapeer County, MI.
Lenawee County, MI | Lenawee County, MI.
Lincoln Park City, MI | Wayne County, MI.
Luce County, MI | Luce County, MI.
Mackinac County, MI | Mackinac County, MI.
Macomb County, MI | Macomb County, MI.
Macomb Township, MI | Macomb County, MI.
Madison Heights City, MI | Oakland County, MI.
Manistee County, MI | Manistee County, MI.
Marquette County, MI | Marquette County, MI.
Mason County, MI | Mason County, MI.
Mecosta County, MI | Mecosta County, MI.
Missaukee County, MI | Missaukee County, MI.
Monroe County, MI | Monroe County, MI.
Montcalm County, MI | Montcalm County, MI.
Montmorency County, MI | Montmorency County, MI.
Mount Pleasant City, MI | Isabella County, MI.
Muskegon City, MI | Muskegon County, MI.
Muskegon County, MI | Muskegon County, MI.
Newaygo County, MI | Newaygo County, MI.
Oak Park City, MI | Oakland County, MI.
Oakland County, MI | Oakland County, MI.
Oceana County, MI | Oceana County, MI.
Ogemaw County, MI | Ogemaw County, MI.
Ontonagon County, MI | Ontonagon County, MI.
Osceola County, MI | Osceola County, MI.
Oscoda County, MI | Oscoda County, MI.
Otsego County, MI | Otsego County, MI.
Ottawa County, MI | Ottawa County, MI.
Pontiac City, MI | Oakland County, MI.
Port Huron City, MI | St. Clair County, MI.
Presque Isle County, MI | Presque Isle County, MI.
Romulus City, MI | Wayne County, MI.
Roscommon County, MI | Roscommon County, MI.
Roseville City, MI | Macomb County, MI.
Saginaw City, MI | Saginaw County, MI.
Saginaw County, MI | Saginaw County, MI.
Sanilac County, MI | Sanilac County, MI.
Schoolcraft County, MI | Schoolcraft County, MI.
Shelby Charter Township (Macomb County), MI | Macomb County, MI.
Shiawassee County, MI | Shiawassee County, MI.
Southfield City, MI | Oakland County, MI.
St. Clair County, MI | St. Clair County, MI.
St. Clair Shores City, MI | Macomb County, MI.
St. Joseph County, MI | St. Joseph County, MI.
Taylor City, MI | Wayne County, MI.
Tuscola County, MI | Tuscola County, MI.
Van Buren County, MI | Van Buren County, MI.
Warren City, MI | Macomb County, MI.
Waterford Township, MI | Oakland County, MI.
Wayne County, MI | Wayne County, MI.
Wexford County, MI | Wexford County, MI.
Wyandotte City, MI | Wayne County, MI.
Wyoming City, MI | Kent County, MI.
Minnesota
Aitkin County, MN | Aitkin County, MN.
Balance of Anoka County, MN | Anoka County, MN.
Balance of Benton County, MN | Benton County, MN.
Balance of Sherburne County, MN | Sherburne County, MN.
Balance of St. Louis County, MN | St. Louis County, MN.
Balance of Stearns County, MN | Stearns County, MN.
Becker County, MN | Becker County, MN.
Beltrami County, MN | Beltrami County, MN.
Cass County, MN | Cass County, MN.
Chisago County, MN | Chisago County, MN.
Clearwater County, MN | Clearwater County, MN.
Crow Wing County, MN | Crow Wing County, MN.
Grant County, MN | Grant County, MN.
Hubbard County, MN | Hubbard County, MN.
Isanti County, MN | Isanti County, MN.
Itasca County, MN | Itasca County, MN.
Kanabec County, MN | Kanabec County, MN.
Koochiching County, MN | Koochiching County, MN.
Le Sueur County, MN | Le Sueur County, MN.
Mahnomen County, MN | Mahnomen County, MN.
Marshall County, MN | Marshall County, MN.
Meeker County, MN | Meeker County, MN.
Mille Lacs County, MN | Mille Lacs County, MN.
Morrison County, MN | Morrison County, MN.
Pennington County, MN | Pennington County, MN.
Pine County, MN | Pine County, MN.
Red Lake County, MN | Red Lake County, MN.
Wadena County, MN | Wadena County, MN.
Mississippi
Adams County, MS | Adams County, MS.
Alcorn County, MS | Alcorn County, MS.
Amite County, MS | Amite County, MS.
Attala County, MS | Attala County, MS.
Benton County, MS | Benton County, MS.
Biloxi City, MS | Harrison County, MS.
Bolivar County, MS | Bolivar County, MS.
Calhoun County, MS | Calhoun County, MS.
Carroll County, MS | Carroll County, MS.
Chickasaw County, MS | Chickasaw County, MS.
Choctaw County, MS | Choctaw County, MS.
Claiborne County, MS | Claiborne County, MS.
Clarke County, MS | Clarke County, MS.
Clay County, MS | Clay County, MS.
Coahoma County, MS | Coahoma County, MS.
Columbus City, MS | Lowndes County, MS.
Copiah County, MS | Copiah County, MS.
Franklin County, MS | Franklin County, MS.
George County, MS | George County, MS.
Greene County, MS | Greene County, MS.
Greenville City, MS | Washington County, MS.
Grenada County, MS | Grenada County, MS.
Hattiesburg City, MS | Forrest and Lamar Counties, MS.
Holmes County, MS | Holmes County, MS.
Humphreys County, MS | Humphreys County, MS.
Issaquena County, MS | Issaquena County, MS.
Itawamba County, MS | Itawamba County, MS.
Jackson City, MS | Hinds,Madison and Rankin Counties.
Jasper County, MS | Jasper County, MS.
Jefferson County, MS | Jefferson County, MS.
Jefferson Davis County, MS | Jefferson Davis County, MS.
Kemper County, MS | Kemper County, MS.
Lauderdale County, MS | Lauderdale County, MS.
Lawrence County, MS | Lawrence County, MS.
Leake County, MS | Leake County, MS.
Lee County, MS | Lee County, MS.
Leflore County, MS | Leflore County, MS.
Lincoln County, MS | Lincoln County, MS.
Lowndes County, MS | Lowndes County, MS.
Marion County, MS | Marion County, MS.
Marshall County, MS | Marshall County, MS.
Meridian City, MS | Lauderdale County, MS.
Monroe County, MS | Monroe County, MS.
Montgomery County, MS | Montgomery County, MS.
Noxubee County, MS | Noxubee County, MS.
Oktibbeha County, MS | Oktibbeha County, MS.
Panola County, MS | Panola County, MS.
Pascagoula City, MS | Jackson County, MS.
Pearl River County, MS | Pearl River County, MS.
Perry County, MS | Perry County, MS.
Pike County, MS | Pike County, MS.
Pontotoc County, MS | Pontotoc County, MS.
Prentiss County, MS | Prentiss County, MS.
Quitman County, MS | Quitman County, MS.
Sharkey County, MS | Sharkey County, MS.
Sunflower County, MS | Sunflower County, MS.
Tallahatchie County, MS | Tallahatchie County, MS.
Tate County, MS | Tate County, MS.
Tippah County, MS | Tippah County, MS.
Tishomingo County, MS | Tishomingo County, MS.
Tunica County, MS | Tunica County, MS.
Tupelo City, MS | Lee County, MS.
Union County, MS | Union County, MS.
Vicksburg City, MS | Warren County, MS.
Walthall County, MS | Walthall County, MS.
Warren County, MS | Warren County, MS.
Washington County, MS | Washington County, MS.
Wayne County, MS | Wayne County, MS.
Webster County, MS | Webster County, MS.
Wilkinson County, MS | Wilkinson County, MS.
Winston County, MS | Winston County, MS.
Yalobusha County, MS | Yalobusha County, MS.
Yazoo County, MS | Yazoo County, MS.
Missouri
Balance of St. Louis County, MO | St. Louis County, MO.
Barton County, MO | Barton County, MO.
Bates County, MO | Cass County, MO.
Benton County, MO | Benton County, MO.
Butler County, MO | Butler County, MO.
Carter County, MO | Carter County, MO.
Crawford County, MO | Crawford County, MO.
Dallas County, MO | Dallas County, MO.
Dent County, MO | Dent County, MO.
Douglas County, MO | Douglas County, MO.
Dunklin County, MO | Dunklin County, MO.
Franklin County, MO | Franklin County, MO.
Gasconade County, MO | Gasconade County, MO.
Hickory County, MO | Hickory County, MO.
Jackson County, MO | Jackson County, MO.
Kansas City City, MO | Cass, Clay and Platte Counties, MO.
Laclede County, MO | Laclede County, MO.
Lincoln County, MO | Lincoln County, MO.
Linn County, MO | Linn County, MO.
Mississippi County, MO | Mississippi County, MO.
Monroe County, MO | Monroe County, MO.
Montgomery County, MO | Montgomery County, MO.
Morgan County, MO | Morgan County, MO.
New Madrid County, MO | New Madrid County, MO.
Pemiscot County, MO | Pemiscot County, MO.
Reynolds County, MO | Reynolds County, MO.
Ripley County, MO | Ripley County, MO.
Shannon County, MO | Shannon County, MO.
St. Clair County, MO | St. Clair County, MO.
St. Francois County, MO | St. Francois County, MO.
St. Louis City, MO | St. Louis City, MO.
Stoddard County, MO | Stoddard County, MO.
Stone County, MO | Stone County, MO.
Taney County, MO | Taney County, MO.
Warren County, MO | Warren County, MO.
Washington County, MO | Washington County, MO.
Wayne County, MO | Wayne County, MO.
Wright County, MO | Wright County, MO.
Montana
Big Horn County, MT | Big Horn County, MT.
Glacier County, MT | Glacier County, MT.
Lincoln County, MT | Lincoln County, MT.
Roosevelt County, MT | Roosevelt County, MT.
Sanders County, MT | Sanders County, MT.
Nebraska
Thurston County, NE | Thurston County, NE.
Nevada
Balance of Clark County, NV | Balance of Clark County, NV.
Balance of Washoe County, NV | Balance of Washoe County, NV.
Lyon County, NV | Lyon County, NV.
Mineral County, NV | Mineral County, NV.
Nye County, NV | Nye County, NV.
New Jersey
Atlantic City City, NJ | Atlantic County, NJ.
Atlantic County, NJ | Atlantic County, NJ.
Balance of Camden County, NJ | Camden County, NJ.
Balance of Gloucester County, NJ | Gloucester County, NJ.
Bayonne City, NJ | Hudson County, NJ.
Camden City, NJ | Camden County, NJ.
Cape May County, NJ | Cape May County, NJ.
City of Orange Township, NJ | Essex County, NJ.
Cumberland County, NJ | Cumberland County, NJ.
East Orange City, NJ | Essex County, NJ.
Elizabeth City, NJ | Union County, NJ.
Garfield City, NJ | Bergen County, NJ.
Irvington Township, NJ | Essex County, NJ.
Manchester Township, NJ | Ocean County, NJ.
Millville City, NJ | Cumberland County, NJ.
Neptune Township, NJ | Monmouth County, NJ.
Newark City, NJ | Essex County, NJ.
Passaic City, NJ | Passaic County, NJ.
Paterson City, NJ | Passaic County, NJ.
Pennsauken Township, NJ | Camden County, NJ.
Perth Amboy City, NJ | Middlesex County, NJ.
Plainfield City, NJ | Union County, NJ.
Trenton City, NJ | Mercer County, NJ.
Union City City, NJ | Hudson County, NJ.
Vineland City, NJ | Cumberland County, NJ.
Winslow Township, NJ | Camden County, NJ.
New Mexico
Balance of Sandoval County, NM | Sandoval County, NM.
Luna County, NM | Luna County, NM.
Mora County, NM | Mora County, NM.
New York
Balance of Broome County, NY | Broome County, NY.
Balance of Erie County, NY | Erie County, NY.
Balance of Jefferson County, NY | Jefferson County, NY.
Balance of Niagara County, NY | Niagara County, NY.
Balance of Suffolk County, NY | Suffolk County, NY.
Balance of Warren County, NY | Warren County, NY.
Bronx County, NY | Bronx County, NY.
Buffalo City, NY | Erie County, NY.
Essex County, NY | Essex County, NY.
Franklin County, NY | Franklin County, NY.
Lockport City, NY | Niagara County, NY.
Montgomery County, NY | Montgomery County, NY.
Newburgh City, NY | Orange County, NY.
Niagara Falls City, NY | Niagara County, NY.
Orleans County, NY | Orleans County, NY.
Oswego County, NY | Oswego County, NY.
Rochester City, NY | Monroe County, NY.
Schoharie County, NY | Schoharie County, NY.
St. Lawrence County, NY | St. Lawrence County, NY.
North Carolina
Alexander County, NC | Alexander County, NC.
Alleghany County, NC | Alleghany County, NC.
Anson County, NC | Anson County, NC.
Balance of Alamance County, NC | Alamance County, NC.
Balance of Cabarrus County, NC | Cabarrus County, NC.
Balance of Craven County, NC | Craven County, NC.
Balance of Cumberland County, NC | Cumberland County, NC.
Balance of Durham County, NC | Durham County, NC.
Balance of Forsyth County, NC | Forsyth County, NC.
Balance of Guilford County, NC | Guilford County, NC.
Balance of Iredell County, NC | Iredell County, NC.
Balance of Mecklenburg County, NC | Mecklenburg County, NC.
Balance of Pitt County, NC | Pitt County, NC.
Balance of Wake County, NC | Wake County, NC.
Balance of Wilson County, NC | Wilson County, NC.
Beaufort County, NC | Beaufort County, NC.
Bertie County, NC | Bertie County, NC.
Bladen County, NC | Bladen County, NC.
Burke County, NC | Burke County, NC.
Caldwell County, NC | Caldwell County, NC.
Caswell County, NC | Caswell County, NC.
Catawba County, NC | Catawba County, NC.
Cherokee County, NC | Cherokee County, NC.
Chowan County, NC | Chowan County, NC.
Cleveland County, NC | Cleveland County, NC.
Columbus County, NC | Columbus County, NC.
Davidson County, NC | Davidson County, NC.
Edgecombe County, NC | Edgecombe County, NC.
Gaston County, NC | Gaston County, NC.
Gastonia City, NC | Gaston County, NC.
Graham County, NC | Graham County, NC.
Halifax County, NC | Halifax County, NC.
Hyde County, NC | Hyde County, NC.
Kinston City, NC | Lenoir County, NC.
Lee County, NC | Lee County, NC.
Lenoir County, NC | Lenoir County, NC.
McDowell County, NC | McDowell County, NC.
Mitchell County, NC | Mitchell County, NC.
Montgomery County, NC | Montgomery County, NC.
Nash County, NC | Nash County, NC.
Northampton County, NC | Northampton County, NC.
Person County, NC | Person County, NC.
Richmond County, NC | Richmond County, NC.
Robeson County, NC | Robeson County, NC.
Rockingham County, NC | Rockingham County, NC.
Rocky Mount City, NC | Edgecombe and Nash Counties, NC.
Rowan County, NC | Rowan County, NC.
Rutherford County, NC | Rutherford County, NC.
Salisbury City, NC | Rowan County, NC.
Scotland County, NC | Scotland County, NC.
Surry County, NC | Surry County, NC.
Swain County, NC | Swain County, NC.
Thomasville City, NC | Davidson County, NC.
Tyrrell County, NC | Tyrrell County, NC.
Vance County, NC | Vance County, NC.
Warren County, NC | Warren County, NC.
Washington County, NC | Washington County, NC.
Wilkes County, NC | Wilkes County, NC.
Wilson City, NC | Wilson County, NC.
Wilson County, NC | Wilson County, NC.
Yancey County, NC | Yancey County, NC.
North Dakota
Benson County, ND | Benson County, ND.
Rolette County, ND | Rolette County, ND.
Ohio
Adams County, OH | Adams County, OH.
Akron City, OH | Summit County, OH.
Allen County, OH | Allen County, OH.
Ashland County, OH | Ashland County, OH.
Ashtabula County, OH | Ashtabula County, OH.
Athens County, OH | Athens County, OH.
Balance of Lake County, OH | Lake County, OH.
Balance of Miami County, OH | Miami County, OH.
Balance of Portage County, OH | Portage County, OH.
Balance of Richland County, OH | Richland County, OH.
Balance of Wood County, OH | Wood County, OH.
Barberton City, OH | Summit County, OH.
Brook Park City, OH | Cuyahoga County, OH.
Brown County, OH | Brown County, OH.
Canton City, OH | Stark County, OH.
Carroll County, OH | Carroll County, OH.
Champaign County, OH | Champaign County, OH.
Clark County, OH | Clark County, OH.
Cleveland City, OH | Cuyahoga County, OH.
Columbiana County, OH | Columbiana County, OH.
Coshocton County, OH | Coshocton County, OH.
Crawford County, OH | Crawford County, OH.
Cuyahoga County, OH | Cuyahoga County, OH.
Dayton City, OH | Montgomery County, OH.
Defiance County, OH | Defiance County, OH.
East Cleveland City, OH | Cuyahoga County, OH.
Elyria City, OH | Lorain County, OH.
Erie County, OH | Erie County, OH.
Euclid City, OH | Cuyahoga County, OH.
Fairborn City, OH | Greene County, OH.
Fulton County, OH | Fulton County, OH.
Gallia County, OH | Gallia County, OH.
Garfield Heights City, OH | Cuyahoga County, OH.
Guernsey County, OH | Guernsey County, OH.
Hardin County, OH | Hardin County, OH.
Harrison County, OH | Harrison County, OH.
Henry County, OH | Henry County, OH.
Highland County, OH | Highland County, OH.
Hocking County, OH | Hocking County, OH.
Huber Heights City, OH | Montgomery County, OH.
Huron County, OH | Huron County, OH.
Jackson County, OH | Jackson County, OH.
Jefferson County, OH | Jefferson County, OH.
Lima City, OH | Allen County, OH.
Lorain City, OH | Lorain County, OH.
Lorain County, OH | Lorain County, OH.
Lucas County, OH | Lucas County, OH.
Mahoning County, OH | Mahoning County, OH.
Mansfield City, OH | Richland County, OH.
Maple Heights City, OH | Cuyahoga County, OH.
Marion City, OH | Marion County, OH.
Marion County, OH | Marion County, OH.
Massillon City, OH | Stark County, OH.
Meigs County, OH | Meigs County, OH.
Middletown City, OH | Butler County, OH.
Monroe County, OH | Monroe County, OH.
Montgomery County, OH | Montgomery County, OH.
Morgan County, OH | Morgan County, OH.
Morrow County, OH | Morrow County, OH.
Muskingum County, OH | Muskingum County, OH.
Noble County, OH | Noble County, OH.
Ottawa County, OH | Ottawa County, OH.
Parma City, OH | Cuyahoga County, OH.
Perry County, OH | Perry County, OH.
Pickaway County, OH | Pickaway County, OH.
Pike County, OH | Pike County, OH.
Preble County, OH | Preble County, OH.
Richland County, OH | Richland County, OH.
Riverside City, OH | Montgomery County, OH.
Ross County, OH | Ross County, OH.
Sandusky City, OH | Erie County, OH.
Sandusky County, OH | Sandusky County, OH.
Scioto County, OH | Scioto County, OH.
Seneca County, OH | Seneca County, OH.
Springfield City, OH | Clark County, OH.
Stark County, OH | Stark County, OH.
Toledo City, OH | Lucas County, OH.
Trotwood City, OH | Montgomery County, OH.
Trumbull County, OH | Trumbull County, OH.
Van Wert County, OH | Van Wert County, OH.
Vinton County, OH | Vinton County, OH.
Warren City, OH | Trumbull County, OH.
Williams County, OH | Williams County, OH.
Wyandot County, OH | Wyandot County, OH.
Xenia City, OH | Greene County, OH.
Youngstown City, OH | Mahoning County, OH.
Zanesville City, OH | Muskingum County, OH.
Oklahoma
McCurtain County, OK | McCurtain County, OK.
Oregon
Albany City, OR | Linn County, OR.
Baker County, OR | Baker County, OR.
Balance of Clackamas County, OR | Clackamas County, OR.
Balance of Lane County, OR | Lane County, OR.
Balance of Linn County, OR | Linn County, OR.
Balance of Marion County, OR | Marion County, OR.
Balance of Yamhill County, OR | Yamhill County, OR.
Columbia County, OR | Columbia County, OR.
Coos County, OR | Coos County, OR.
Crook County, OR | Crook County, OR.
Curry County, OR | Curry County, OR.
Deschutes County, OR | Deschutes County, OR.
Douglas County, OR | Douglas County, OR.
Grant County, OR | Grant County, OR.
Grants Pass City, OR | Josephine County, OR.
Harney County, OR | Harney County, OR.
Jackson County, OR | Jackson County, OR.
Jefferson County, OR | Jefferson County, OR.
Josephine County, OR | Josephine County, OR.
Klamath County, OR | Klamath County, OR.
Lake County, OR | Lake County, OR.
Linn County, OR | Linn County, OR.
Malheur County, OR | Malheur County, OR.
Medford City, OR | Jackson County, OR.
Springfield City, OR | Lane County, OR.
Union County, OR | Union County, OR.
Wallowa County, OR | Wallowa County, OR.
Pennsylvania
Allentown City, PA | Lehigh County, PA.
Balance of Cambria County, PA | Cambria County, PA.
Balance of Lawrence County, PA | Lawrence County, PA.
Bedford County, PA | Bedford County, PA.
Cameron County, PA | Cameron County, PA.
Chester City, PA | Delaware County, PA.
Forest County, PA | Forest County, PA.
Fulton County, PA | Fulton County, PA.
Hazleton City, PA | Luzerne County, PA.
Johnstown City, PA | Cambria County, PA.
McKeesport City, PA | Allegheny County, PA.
Mercer County, PA | Mercer County, PA.
New Castle City, PA | Lawrence County, PA.
Philadelphia County/city, PA | Philadelphia County/city, PA.
Potter County, PA | Potter County, PA.
Reading City, PA | Berks County, PA.
York City, PA | York County, PA.
Puerto Rico
Adjuntas Municipio, PR | Adjuntas Municipio, PR.
Aguada Municipio, PR | Aguada Municipio, PR.
Aguadilla Municipio, PR | Aguadilla Municipio, PR.
Aguas Buenas Municipio, PR | Aguas Buenas Municipio, PR.
Aibonito Municipio, PR | Aibonito Municipio, PR.
Anasco Municipio, PR | Anasco Municipio, PR.
Arecibo Municipio, PR | Arecibo Municipio, PR.
Arroyo Municipio, PR | Arroyo Municipio, PR.
Barceloneta Municipio, PR | Barceloneta Municipio, PR.
Barranquitas Municipio, PR | Barranquitas Municipio, PR.
Bayamon Municipio, PR | Bayamon Municipio, PR.
Cabo Rojo Municipio, PR | Cabo Rojo Municipio, PR.
Caguas Municipio, PR | Caguas Municipio, PR.
Camuy Municipio, PR | Camuy Municipio, PR.
Canovanas Municipio, PR | Canovanas Municipio, PR.
Carolina Municipio, PR | Carolina Municipio, PR.
Catano Municipio, PR | Catano Municipio, PR.
Cayey Municipio, PR | Cayey Municipio, PR.
Ceiba Municipio, PR | Ceiba Municipio, PR.
Ciales Municipio, PR | Ciales Municipio, PR.
Cidra Municipio, PR | Cidra Municipio, PR.
Coamo Municipio, PR | Coamo Municipio, PR.
Comerio Municipio, PR | Comerio Municipio, PR.
Corozal Municipio, PR | Corozal Municipio, PR.
Culebra Municipio, PR | Culebra Municipio, PR.
Dorado Municipio, PR | Dorado Municipio, PR.
Fajardo Municipio, PR | Fajardo Municipio, PR.
Florida Municipio, PR | Florida Municipio, PR.
Guanica Municipio, PR | Guanica Municipio, PR
Guayama Municipio, PR | Guayama Municipio, PR.
Guayanilla Municipio, PR | Guayanilla Municipio, PR.
Guaynabo Municipio, PR | Guaynabo Municipio, PR.
Gurabo Municipio, PR | Gurabo Municipio, PR.
Hatillo Municipio, PR | Hatillo Municipio, PR.
Hormigueros Municipio, PR | Hormigueros Municipio, PR.
Humacao Municipio, PR | Humacao Municipio, PR.
Isabela Municipio, PR | Isabela Municipio, PR.
Jayuya Municipio, PR | Jayuya Municipio, PR.
Juana Diaz Municipio, PR | Juana Diaz Municipio, PR.
Juncos Municipio, PR | Juncos Municipio, PR.
Lajas Municipio, PR | Lajas Municipio, PR.
Lares Municipio, PR | Lares Municipio, PR.
Las Marias Municipio, PR | Las Marias Municipio, PR.
Las Piedras Municipio, PR | Las Piedras Municipio, PR.
Loiza Municipio, PR | Loiza Municipio, PR.
Luquillo Municipio, PR | Luquillo Municipio, PR.
Manati Municipio, PR | Manati Municipio, PR.
Maricao Municipio, PR | Maricao Municipio, PR.
Maunabo Municipio, PR | Maunabo Municipio, PR.
Mayaguez Municipio, PR | Mayaguez Municipio, PR.
Moca Municipio, PR | Moca Municipio, PR.
Morovis Municipio, PR | Morovis Municipio, PR.
Naguabo Municipio, PR | Naguabo Municipio, PR.
Naranjito Municipio, PR | Naranjito Municipio, PR.
Orocovis Municipio, PR | Orocovis Municipio, PR.
Patillas Municipio, PR | Patillas Municipio, PR.
Penuelas Municipio, PR | Penuelas Municipio, PR.
Ponce Municipio, PR | Ponce Municipio, PR.
Quebradillas Municipio, PR | Quebradillas Municipio, PR.
Rincon Municipio, PR | Rincon Municipio, PR.
Rio Grande Municipio, PR | Rio Grande Municipio, PR.
Sabana Grande Municipio, PR | Sabana Grande Municipio, PR.
Salinas Municipio, PR | Salinas Municipio, PR.
San German Municipio, PR | San German Municipio, PR.
San Juan Municipio, PR | San Juan Municipio, PR.
San Lorenzo Municipio, PR | San Lorenzo Municipio, PR.
San Sebastian Municipio, PR | San Sebastian Municipio, PR.
Santa Isabel Municipio, PR | Santa Isabel Municipio, PR.
Toa Alta Municipio, PR | Toa Alta Municipio, PR.
Toa Baja Municipio, PR | Toa Baja Municipio, PR.
Trujillo Alto Municipio, PR | Trujillo Alto Municipio, PR.
Utuado Municipio, PR | Utuado Municipio, PR.
Vega Alta Municipio, PR | Vega Alta Municipio, PR.
Vega Baja Municipio, PR | Vega Baja Municipio, PR.
Vieques Municipio, PR | Vieques Municipio, PR.
Villalba Municipio, PR | Villalba Municipio, PR.
Yabucoa Municipio, PR | Yabucoa Municipio, PR.
Yauco Municipio, PR | Yauco Municipio, PR.
Rhode Island
Central Falls City, RI | Central Falls City, RI.
Coventry Town, RI | Coventry Town, RI.
Cranston City, RI | Cranston City, RI.
East Providence City, RI | East Providence City, RI.
Foster Town, RI | Foster Town, RI.
Hopkinton Town, RI | Hopkinton Town, RI.
Johnston Town, RI | Johnston Town, RI.
New Shoreham Town, RI | New Shoreham Town, RI.
North Providence Town, RI | North Providence Town, RI.
Pawtucket City, RI | Pawtucket City, RI.
Providence City, RI | Providence City, RI.
Providence County, RI | Providence County, RI.
Scituate Town, RI | Scituate Town, RI.
Tiverton Town, RI | Tiverton Town, RI.
Warren Town, RI | Warren Town, RI.
West Warwick Town, RI | West Warwick Town, RI.
Woonsocket City, RI | Woonsocket City, RI.
South Carolina
Abbeville County, SC | Abbeville County, SC.
Aiken City, SC | Aiken County, SC.
Allendale County, SC | Allendale County, SC.
Anderson City, SC | Anderson County, SC.
Anderson County, SC | Anderson County, SC.
Balance of Beaufort County, SC | Beaufort County, SC.
Bamberg County, SC | Bamberg County, SC.
Barnwell County, SC | Barnwell County, SC.
Calhoun County, SC | Calhoun County, SC.
Cherokee County, SC | Cherokee County, SC.
Chester County, SC | Chester County, SC.
Chesterfield County, SC | Chesterfield County, SC.
Clarendon County, SC | Clarendon County, SC.
Colleton County, SC | Colleton County, SC.
Columbia City, SC | Richland County, SC.
Darlington County, SC | Darlington County, SC.
Dillon County, SC | Dillon County, SC.
Edgefield County, SC | Edgefield County, SC.
Fairfield County, SC | Fairfield County, SC.
Florence City, SC | Florence County, SC.
Florence County, SC | Florence County, SC.
Georgetown County, SC | Georgetown County, SC.
Goose Creek City, SC | Berkeley County, SC.
Greenville City, SC | Greenville County, SC.
Greenwood County, SC | Greenwood County, SC.
Hampton County, SC | Hampton County, SC.
Lancaster County, SC | Lancaster County, SC.
Laurens County, SC | Laurens County, SC.
Lee County, SC | Lee County, SC.
Marion County, SC | Marion County, SC.
Marlboro County, SC | Marlboro County, SC.
McCormick County, SC | McCormick County, SC.
Myrtle Beach City, SC | Horry County, SC.
Newberry County, SC | Newberry County, SC.
Oconee County, SC | Oconee County, SC.
Orangeburg County, SC | Orangeburg County, SC.
Rock Hill City, SC | York County, SC.
Spartanburg City, SC | Spartanburg County, SC.
Spartanburg County, SC | Spartanburg County, SC.
Summerville Town, SC | Charleston and Dorchester Counties, SC.
Sumter City, SC | Sumter County, SC.
Sumter County, SC | Sumter County, SC.
Union County, SC | Union County, SC.
Williamsburg County, SC | Williamsburg County, SC.
York County, SC | York County, SC.
South Dakota
Buffalo County, SD | Buffalo County, SD.
Dewey County, SD | Dewey County, SD.
Shannon County, SD | Shannon County, SD.
Todd County, SD | Todd County, SD.
Tennessee
Balance of Carter County, TN | Carter County, TN.
Balance of Maury County, TN | Maury County, TN.
Benton County, TN | Benton County, TN.
Bledsoe County, TN | Bledsoe County, TN.
Campbell County, TN | Campbell County, TN.
Carroll County, TN | Carroll County, TN.
Claiborne County, TN | Claiborne County, TN.
Clay County, TN | Clay County, TN.
Cleveland City, TN | Bradley County, TN.
Cocke County, TN | Cocke County, TN.
Columbia City, TN | Maury County, TN.
Cookeville City, TN | Putnam County, TN.
Crockett County, TN | Crockett County, TN.
Cumberland County, TN | Cumberland County, TN.
Decatur County, TN | Decatur County, TN.
Dyer County, TN | Dyer County, TN.
Fayette County, TN | Fayette County, TN.
Fentress County, TN | Fentress County, TN.
Gallatin City, TN | Sumner County, TN.
Gibson County, TN | Gibson County, TN.
Giles County, TN | Giles County, TN.
Grainger County, TN | Grainger County, TN.
Greene County, TN | Greene County, TN.
Grundy County, TN | Grundy County, TN.
Hancock County, TN | Hancock County, TN.
Hardeman County, TN | Hardeman County, TN.
Hardin County, TN | Hardin County, TN.
Haywood County, TN | Haywood County, TN.
Henderson County, TN | Henderson County, TN.
Henry County, TN | Henry County, TN.
Hickman County, TN | Hickman County, TN.
Houston County, TN | Houston County, TN.
Humphreys County, TN | Humphreys County, TN.
Jackson City, TN | Madison County, TN.
Jackson County, TN | Jackson County, TN.
Jefferson County, TN | Jefferson County, TN.
Kingsport City, TN | Hawkins and Sullivan Counties, TN.
Knoxville City, TN | Knox County, TN.
Lake County, TN | Lake County, TN.
Lauderdale County, TN | Lauderdale County, TN.
Lawrence County, TN | Lawrence County, TN.
Lewis County, TN | Lewis County, TN.
Macon County, TN | Macon County, TN.
Marion County, TN | Marion County, TN.
Marshall County, TN | Marshall County, TN.
Maryville City, TN | Blount County, TN.
Maury County, TN | Maury County, TN.
McMinn County, TN | McMinn County, TN.
McNairy County, TN | McNairy County, TN.
Meigs County, TN | Meigs County, TN.
Memphis City, TN | Shelby County, TN.
Monroe County, TN | Monroe County, TN.
Morgan County, TN | Morgan County, TN.
Morristown City, TN | Hamblen County, TN.
Obion County, TN | Obion County, TN.
Overton County, TN | Overton County, TN.
Perry County, TN | Perry County, TN.
Pickett County, TN | Pickett County, TN.
Polk County, TN | Polk County, TN.
Rhea County, TN | Rhea County, TN.
Scott County, TN | Scott County, TN.
Sequatchie County, TN | Sequatchie County, TN.
Smith County, TN | Smith County, TN.
Stewart County, TN | Stewart County, TN.
Tipton County, TN | Tipton County, TN.
Trousdale County, TN | Trousdale County, TN.
Unicoi County, TN | Unicoi County, TN.
Van Buren County, TN | Van Buren County, TN.
Warren County, TN | Warren County, TN.
Wayne County, TN | Wayne County, TN
Weakley County, TN | Weakley County, TN.
White County, TN | White County, TN.
Texas
Balance of Coryell County, TX | Coryell County, TX.
Balance of Dallas County, TX | Dallas County, TX.
Balance of El Paso County, TX | El Paso County, TX.
Balance of Galveston County, TX | Galveston County, TX.
Balance of Jefferson County, TX | Jefferson County, TX.
Balance of Nueces County, TX | Nueces County, TX.
Balance of Val Verde County, TX | Val Verde County, TX.
Balance of Webb County, TX | Webb County, TX.
Baytown City, TX | Harris County, TX.
Brownsville City, TX | Cameron County, TX.
Cameron County, TX | Cameron County, TX.
Coke County, TX | Coke County, TX.
Dimmit County, TX | Dimmit County, TX.
Eagle Pass City, TX | Maverick County, TX.
Hidalgo County, TX | Hidalgo County, TX.
Houston County, TX | Houston County, TX.
Lancaster City, TX | Dallas County, TX.
Loving County, TX | Loving County, TX.
Matagorda County, TX | Matagorda County, TX.
Maverick County, TX | Maverick County, TX.
Newton County, TX | Newton County, TX.
Polk County, TX | Polk County, TX.
Presidio County, TX | Presidio County, TX.
Sabine County, TX | Sabine County, TX.
San Juan City, TX | Hidalgo County, TX.
Socorro City, TX | El Paso County, TX.
Starr County, TX | Starr County, TX.
Texas City City, TX | Galveston County, TX.
Weslaco City, TX | Hidalgo County, TX.
Willacy County, TX | Willacy County, TX.
Zavala County, TX | Zavala County, TX.
Vermont
Orleans County, VT | Orleans County, VT.
Virginia
Covington City, VA | Carroll County, VA.
Danville City, VA | Covington City, VA.
Emporia City, VA | Danville City, VA.
Halifax County, VA | Emporia City, VA.
Henry County, VA | Halifax County, VA.
Martinsville City, VA | Henry County, VA.
Petersburg City, VA | Martinsville City, VA.
Pittsylvania County, VA | Page County, VA.
Williamsburg City, VA | Petersburg City, VA.
Washington
Balance of Benton County, WA | Benton County, WA.
Balance of Franklin County, WA | Franklin County, WA.
Balance of Skagit County, WA | Skagit County, WA.
Balance of Spokane County, WA | Spokane County, WA.
Balance of Yakima County, WA | Yakima County, WA.
Bremerton City, WA | Kitsap County, WA.
Clallam County, WA | Clallam County, WA.
Clark County, WA | Clark County, WA.
Columbia County, WA | Columbia County, WA.
Cowlitz County, WA | Cowlitz County, WA.
Ferry County, WA | Ferry County, WA.
Grays Harbor County, WA | Grays Harbor County, WA.
Klickitat County, WA | Klickitat County, WA.
Lewis County, WA | Lewis County, WA.
Longview City, WA | Cowlitz County, WA.
Mason County, WA | Mason County, WA.
Okanogan County, WA | Okanogan County, WA.
Pacific County, WA | Pacific County, WA.
Pasco City, WA | Franklin County, WA.
Pend Oreille County, WA | Pend Oreille County, WA.
Skamania County, WA | Skamania County, WA.
Stevens County, WA | Stevens County, WA.
Wahkiakum County, WA | Wahkiakum County, WA.
Yakima County, WA | Yakima County, WA.
West Virginia
Calhoun County, WV | Calhoun County, WV.
Clay County, WV | Clay County, WV.
McDowell County, WV | McDowell County, WV.
Mason County, WV | Mason County, WV.
Pocahontas County, WV | Pocahontas County, WV.
Wetzel County, WV | Wetzel County, WV.
Wisconsin
Adams County, WI | Adams County, WI.
Bayfield County, WI | Bayfield County, WI.
Beloit City, WI | Rock County, WI.
Burnett County, WI | Burnett County, WI.
Forest County, WI | Forest County, WI.
Green Bay City, WI | Brown County, WI.
Iron County, WI | Iron County, WI.
Janesville City, WI | Rock County, WI.
Menominee County, WI | Menominee County, WI.
Milwaukee City, WI | Milwaukee County, WI.
Racine City, WI | Racine County, WI.
Rusk County, WI | Rusk County, WI.
Sawyer County, WI | Sawyer County, WI.
Washburn County, WI | Washburn County, WI.

[FR Doc. E9-26165 Filed 10-29-09; 8:45 am]

BILLING CODE 4510-FT-P